DEPARTMENT OF COMMERCE

Foreign-Trade Zones Board

[Docket 34-2003]

Maxtor Corp.—Application for Subzone Status; Extension of Comment Period

The comment period for the application for subzone status at the Maxtor Corporation in Coppell, Texas, submitted by the Dallas/Fort Worth International Airport Board (68 FR 42685, 7/18/03), is being extended, to October 16, 2003, to allow interested parties additional time in which to comment. Rebuttal comments may be submitted during the subsequent 15 day period, until October 31, 2003. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

Dated: September 16, 2003.
Dennis Puccinelli,
Executive Secretary.

[FR Doc. 03-24397 Filed 9-25-03; 8:45 am]

BILLING CODE 3510-DS-P